DEPARTMENT OF COMMERCE

Bureau of the Census

National Advisory Committee on Racial, Ethnic and Other Populations

AGENCY: Bureau of the Census, Department of Commerce.

ACTION: Notice of renewal of the National Advisory Committee on Racial, Ethnic and Other Populations.

SUMMARY: The Secretary of the Department of Commerce renewed and filed the charter for the National Advisory Committee on Racial, Ethnic and Other Populations (NAC). The purpose of the NAC is to provide advice to the Director of the Bureau of the Census (Census Bureau) on the full range of economic, housing, demographic, socioeconomic, linguistic, technological, methodological, geographic, behaviorial and operational variables affecting the cost, accuracy and implementation of Census Bureau programs and surveys, including the decennial census. The Secretary has determined that the work of the NAC is in the public interest and relevant to the duties of the Census Bureau. Additional information concerning the NAC can be found by visiting the NAC's website at: https://www.census.gov/about/cac/nac.html.

FOR FURTHER INFORMATION CONTACT: Kimberly L. Leonard, External Stakeholder Program Manager, Office of Program, Performance and Stakeholder Integration (PPSI), Room 2K137, U.S. Census Bureau, 4600 Silver Hill Road, Washington, DC 20233, by telephone at 301-763-7281 or by email at Kimberly.L.Leonard@census.gov. Individuals who use telecommunication devices for the deaf (TDD) may call the Federal Information Relay Service (FIRS) at 1-800-877-8339 between 8:00 a.m. and 8:00 p.m., Eastern Standard Time, Monday through Friday.

SUPPLEMENTARY INFORMATION:

Background

In accordance with the Federal Advisory Committee Act (FACA), the Secretary of the Department of Commerce renewed and filed the charter for the NAC. The NAC will operate under the provisions of FACA and will report to the Secretary of the Department of Commerce through the Director of the Census Bureau. The NAC will advise the Director of Census Bureau on the full range of Census Bureau programs and activities.

Objectives and Duties

1. The NAC addresses economic, housing, demographic, socioeconomic, linguistic, technological, methodological, geographic, behavioral, and operational variables affecting the cost, accuracy, and implementation of Census Bureau programs and surveys, including the decennial census.

2. The NAC will provide feedback on the identification of new strategies for improved census operations, and survey and data collection methods, including identifying cost efficient ways to increase response rates.

3. The NAC provides guidance on census policies, research and methodology, tests, operations, communications/messaging, and other activities to ascertain needs and best practices to improve censuses, surveys, operations, and programs.

4. The NAC reviews and provides formal recommendations and feedback on working papers, reports, and other documents related to the design and implementation of Census Bureau programs and surveys.

5. In providing insight, perspectives, and expertise on the full spectrum of Census Bureau surveys and programs, the NAC examines such areas as hidden households, language barriers, students and youth, aging populations, American Indian and Alaska Native tribal considerations, new immigrant populations, populations affected by natural disasters, highly mobile and migrant populations, complex households, poverty, race/ethnic distribution, privacy and confidentiality, rural populations and businesses, individuals and households with limited access to information and communications technologies, the dynamic nature of new businesses, minority ownership of businesses, as well as other concerns impacting Census Bureau survey design and implementation.

6. The NAC uses formal advisory committee meetings, webinars, web conferences, working groups, and other methods to accomplish its goals, consistent with the requirements of the FACA. The NAC will consult with regional office staff to help identify regional, local, tribal and grass roots issues, trends and perspectives related to Census Bureau surveys and programs.

7. The NAC functions solely as an advisory body under the FACA.

Membership

1. The NAC consists of up to 32 members who serve at the discretion of the Director. The Census Bureau is seeking eight qualified candidates to be considered for appointment.

2. The NAC aims to have a balanced representation among its members, considering such factors as geography, age, sex, race, ethnicity, technical expertise, community involvement, and knowledge of census programs and/or activities.

3. The NAC aims to include members from diverse backgrounds, including state, local and tribal governments; academia; research, national and community-based organizations; and, the private sector.

4. Members will be selected from the public and private sectors. Members may serve as Special Government Employees (SGEs) or representatives who are selected to represent specific organizations.

5. SGEs and representatives will be selected based on their expertise in or representation of specific areas to include: Diverse populations (including race and ethnic populations); national, state, local, and tribal interest organizations serving hard-to-count populations; researchers; community-based organizations; academia; business interests; marketing and media professionals; researchers; and, members of professional associations. Members will be individually advised of the capacity in which they will serve through their appointment letters.

6. Membership is open to persons who are not seated on other Census Bureau stakeholder entities (i.e., State Data Centers, Census Information Centers, Federal State Cooperative on Populations Estimates Program, other Census Advisory Committees, etc.). People who have already served one full-term on a Census Bureau Advisory Committee may not serve on any other Census Bureau Advisory Committee for three years from the termination of previous service. No employee of the federal government can serve as a member of the NAC.

7. Members will serve for a three-year term. All members will be reevaluated at the conclusion of each term with the prospect of renewal, pending NAC needs. Active attendance and participation in meetings and activities (e.g., conference calls and assignments) will be factors considered when determining term renewal or membership continuance. Members may be appointed for a second three-year term at the discretion of the Director.

8. Members will be selected on a standardized basis, in accordance with applicable Department of Commerce guidance.

Miscellaneous

1. Members of the NAC serve without compensation, but receive reimbursement for NAC-related travel and lodging expenses.

2. The NAC meets once or twice a year, budget permitting, but additional meetings may be held as deemed necessary by the Director or Designated Federal Officer. NAC meetings are open to the public in accordance with the FACA.

3. Members must be able to actively participate in the tasks of the NAC, including, but not limited to, regular meeting attendance, NAC meeting discussant responsibilities, review of materials, as well as participation in conference calls, webinars, working groups, and/or special committee activities.

4. The Department of Commerce is committed to equal opportunity in the workplace and seeks diverse NAC membership.

Steven D. Dillingham, Director, Bureau of the Census has approved the publication of this notice in the Federal Register.

Sheleen Dumas,
Department PRA Clearance Officer, Office of the Chief Information Officer, Commerce Department.

[FR Doc. 2020-09180 Filed 4-29-20; 8:45 am]

BILLING CODE 3510-07-P